DEPARTMENT OF TRANSPORTATION

Federal Railroad Administration

[Docket No. FRA-2000-7257, Notice No. 98]

Railroad Safety Advisory Committee; Charter Reestablishment

AGENCY: Federal Railroad Administration (FRA), U.S. Department of Transportation (DOT).

ACTION: Announcement of charter reestablishment of the Railroad Safety Advisory Committee (RSAC).

SUMMARY: FRA announces the charter reestablishment of the RSAC, a Federal Advisory Committee established by the U.S. Secretary of Transportation in accordance with the Federal Advisory Committee Act to provide information, advice, and recommendations to the FRA Administrator on matters relating to railroad safety. This charter renewal will be effective for two years from the date it is filed with Congress.

FOR FURTHER INFORMATION CONTACT: Phil Sung, Acting RSAC Coordinator, philip.sung@dot.gov, 916-224-8826, or Monique Ferguson Stewart, Executive Officer, Office of Program Management, Office of Railroad Safety, monique.stewart@dot.gov, 202-689-4313.

SUPPLEMENTARY INFORMATION: This notice is provided in accordance with the Federal Advisory Committee Act (Pub. L. 92-463, 5 U.S.C. ch. 10). RSAC comprises 25 representatives from 21 organizations, representing various rail industry perspectives. The composition of the committee ensures the requisite range of views and expertise necessary to discharge its responsibilities. Please see the RSAC website for additional information at https://rsac.fra.dot.gov/.

Issued in Washington, DC.
John Karl Alexy,
Associate Administrator for Railroad Safety and Chief Safety Officer.

[FR Doc. 2026-00470 Filed 1-12-26; 8:45 am]

BILLING CODE 4910-06-P